DEPARTMENT OF HEALTH AND HUMAN SERVICES

Office of the Secretary

[Document Identifier HHS-OS-0990-New-30D]

Agency Information Collection Activities; Proposals, Submissions, and Approvals

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before April 10, 2017.

ADDRESSES: Submit your comments to OIRA_submission@omb.eop.gov or via facsimile to (202) 395-5806.

FOR FURTHER INFORMATION CONTACT: Information Collection Clearance staff, Information.CollectionClearance@hhs.gov or (202) 690-5683.

SUPPLEMENTARY INFORMATION: When submitting comments or requesting information, please include the Information Collection Request Title and document identifier 0990-New-30D for reference.

Information Collection Request Title: Domestic Violence Housing First Demonstration Evaluation.

Abstract: The Office of the Assistant Secretary for Planning and Evaluation (ASPE) within the U.S. Department of Health and Human Services, in partnership with the Office for Victims of Crimes within the U.S. Department of Justice, is seeking approval by OMB for a new information collection request entitled, “Domestic Violence Housing First (DVHF) Demonstration Evaluation.” The Washington State Coalition Against Domestic Violence (WSCADV) is overseeing and coordinating an evaluation of the DVHF Demonstration project through a contract with ASPE. This quasi-experimental research study involves longitudinally examining the program effects of DVHF on domestic violence survivors' safety and housing stability. The findings will be of interest to the general public, to policy-makers, and to organizations working with domestic violence survivors.

Data collection will include in-depth, private interviews with 320 domestic violence survivors conducted by trained professional staff. At Time 1 study enrollment, they will be interviewed about their backgrounds, housing and safety obstacles, and services desired. There will be three follow-up interviews with them every six months after the Time 1 Interview (i.e., 6, 12, and 18 months) to examine the match between needs and services, as well as their safety and housing stability. Study enrollment will take place over 15 months, so the annualized burden for the Time 1 and follow-up surveys is based on 12/15 (256) of the expected sample (320).

The primary service providers working with the domestic violence survivors will complete self-administered online questionnaires to provide more detailed program implementation data. Service providers will complete a survey about their work history and demographics and a survey about the services provided for each domestic violence survivor in their caseload that is a participant in the study (approximately 16 survivors per provider). This latter data collection will occur six months after a domestic violence survivor enrolls in the study over 15 months to correspond to the study enrollment period. Finally, the study will also include monthly data collection for 19 months from an agency point of contact (POC) in order to verify agency information (e.g., the number of advocates working in the agency, advocate caseloads, dates of study participants' receipt of services).

Likely Respondents: The respondents are domestic violence survivors, primary service providers, and community agency points of contact who work with their agency data systems.

Annualized Reporting Burden on Study Participants
Form name | Type of respondent | Annual number of respondents | Number of responses per respondent | Average burden hours per response | Total annual burden hours
Time 1 (Baseline) Interview | Domestic violence survivors | 256 | 1 | 1 | 256
Follow-up Interviews | Domestic violence survivors | 256 | 2 | 1 | 512
Online survey about advocates' work history and demographics | Victim service advocates | 20 | 1 | 15/60 | 5
Online survey of advocates' work with survivors | Victim service advocates | 20 | 13 | 20/60 | 86
Form for community agency points of contact to verify agency information (monthly) | Community agency point of contact | 4 | 12 | 15/60 | 12
Total |  |  |  |  | 871

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2017-04614 Filed 3-8-17; 8:45 am]

BILLING CODE 4150-05-P